DEPARTMENT OF ENERGY

Federal Energy Regulatory Commission

Combined Notice of Filings #1

Take notice that the commission received the following accounting Request filings:

Docket Numbers: AC25-37-000.

Applicants: The Potomac Edison Company.

Description: The Potomac Edison Company submits final accounting entries to account for the Transaction re transferring ownership of the Mechanicstown 138kV Substation.

Filed Date: 12/16/24.

Accession Number: 20241216-5144.

Comment Date: 5 p.m. ET 1/6/25.

Take notice that the Commission received the following exempt wholesale generator filings:

Docket Numbers: EG25-61-000.

Applicants: Pontotoc Wind, LLC, Bracewell LLP.

Description: Pontotoc Wind, LLC submits Notice of Self-Certification of Exempt Wholesale Generator Status.

Filed Date: 12/16/24.

Accession Number: 20241216-5229.

Comment Date: 5 p.m. ET 1/6/25.

Take notice that the Commission received the following electric rate filings:

Docket Numbers: ER10-1585-022; ER10-2480-012; ER10-1594-022; ER16-733-013; ER10-1617-022; ER16-1148-013; ER18-1960-006; ER12-60-024; ER10-1632-024; ER10-1626-014; ER10-1628-022.

Applicants: Texas Electric Marketing, LLC, Tenaska Virginia Partners, L.P., Tenaska Power Services Co., Tenaska Power Management, LLC, Tenaska Pennsylvania Partners, LLC, Tenaska Energía de Mexico, S. de R. L. de C.V., New Mexico Electric Marketing, LLC, LQA, LLC, California Electric Marketing, LLC, Berkshire Power Company, LLC, Alabama Electric Marketing, LLC.

Description: Response to November 5, 2024 Deficiency Letter of Alabama Electric Marketing, LLC et al.

Filed Date: 12/5/24.

Accession Number: 20241205-5183.

Comment Date: 5 p.m. ET 12/26/24.

Docket Numbers: ER10-2042-046; ER10-1944-012; ER10-2051-014; ER23-944-004; ER10-1942-038; ER17-696-026; ER14-2931-012; ER10-2043-014; ER10-2029-016; ER10-2041-014; ER18-1321-007; ER10-2040-014; ER20-1939-005; ER10-1938-041; ER10-2036-015; ER10-1934-040; ER10-1893-040; ER10-3051-045; ER10-2985-044; ER10-3049-045; ER10-1889-012; ER10-3260-014; ER10-1895-012; ER10-1870-012; ER11-4369-025; ER16-2218-026; ER10-1862-040; ER10-1858-012; ER13-1401-012; ER10-2044-014.

Applicants: Zion Energy LLC, Westbrook Energy Center, LLC, TBG Cogen Partners, Power Contract Financing, L.L.C., North American Power Business, LLC, North American Power and Gas, LLC, Nissequogue Cogen Partners, KIAC Partners, Granite Ridge Energy, LLC, CPN Bethpage 3rd Turbine, Inc., Champion Energy Services, LLC, Champion Energy Marketing LLC, Champion Energy, LLC, CES Marketing X, LLC, CES Marketing IX, LLC, Calpine Vineland Solar, LLC, Calpine Power America—CA, LLC, Calpine Northeast Development, LLC, Calpine New Jersey Generation, LLC, Calpine Mid-Merit II, LLC, Calpine Mid Merit, LLC, Calpine Mid-Atlantic Marketing, LLC, Calpine Mid-Atlantic Generation, LLC, Calpine Fore River Energy Center, LLC, Calpine Energy Solutions, LLC, Calpine Construction Finance Co., L.P., Calpine Community Energy, LLC, Calpine Bethlehem, LLC, Bethpage Energy Center 3, LLC, Calpine Energy Services, L.P.

Description: Response to November 5, 2024 Deficiency Letter of Calpine Energy Services, L.P. et al.

Filed Date: 12/5/24.

Accession Number: 20241205-5136.

Comment Date: 5 p.m. ET 12/26/24.

Docket Numbers: ER13-77-014.

Applicants: Tucson Electric Power Company.

Description: Compliance filing: Order 1000 Attachment K Compliance Filing to be effective 12/17/2024.

Filed Date: 12/16/24.

Accession Number: 20241216-5126.

Comment Date: 5 p.m. ET 1/6/25.

Docket Numbers: ER13-78-015.

Applicants: UNS Electric, Inc.

Description: Compliance filing: Order 1000 Attachment K Compliance Filing to be effective 12/17/2024.

Filed Date: 12/16/24.

Accession Number: 20241216-5129.

Comment Date: 5 p.m. ET 1/6/25.

Docket Numbers: ER13-82-013.

Applicants: Arizona Public Service Company.

Description: Compliance filing: Compliance with FERC Order on Remand—Revisions to Attachment E to be effective 12/17/2024.

Filed Date: 12/16/24.

Accession Number: 20241216-5241.

Comment Date: 5 p.m. ET 1/6/25.

Docket Numbers: ER13-91-012.

Applicants: El Paso Electric Company.

Description: Compliance filing: OATT Attachment K Compliance Filing to Comply with Oct 17, 2024 Order on Remand to be effective 12/17/2024.

Filed Date: 12/16/24.

Accession Number: 20241216-5212.

Comment Date: 5 p.m. ET 1/6/25.

Docket Numbers: ER13-96-013.

Applicants: Black Hills Power, Inc.

Description: Compliance filing: Compliance Filing in Response to October 17, 2024 Order on Remand to be effective 12/17/2024.

Filed Date: 12/16/24.

Accession Number: 20241216-5195.

Comment Date: 5 p.m. ET 1/6/25.

Docket Numbers: ER13-97-013.

Applicants: Black Hills/Colorado Electric Utility Company, LP.

Description: Compliance filing: Black Hills Colorado Electric, LLC submits tariff filing per 35: Compliance Filing in Response to October 17, 2024 Order on Remand to be effective 12/17/2024.

Filed Date: 12/16/24.

Accession Number: 20241216-5194.

Comment Date: 5 p.m. ET 1/6/25.

Docket Numbers: ER13-120-013.

Applicants: Cheyenne Light, Fuel and Power Company.

Description: Compliance filing: Compliance Filing in Response to October 17, 2024 Order on Remand to be effective 12/17/2024.

Filed Date: 12/16/24.

Accession Number: 20241216-5176.

Comment Date: 5 p.m. ET 1/6/25.

Docket Numbers: ER15-411-010.

Applicants: Arizona Public Service Company.

Description: Compliance filing: Compliance with FERC Order on Remand—Revisions to Rate Schedule No. 274 to be effective 12/17/2024.

Filed Date: 12/16/24.

Accession Number: 20241216-5244.

Comment Date: 5 p.m. ET 1/6/25.

Docket Numbers: ER16-2130-001.

Applicants: Public Service Company of New Mexico.

Description: Compliance filing: Compliance Filing in Response to October 17, 2024 Order on Remand to be effective 12/17/2024.

Filed Date: 12/16/24.

Accession Number: 20241216-5260.

Comment Date: 5 p.m. ET 1/6/25.

Docket Numbers: ER22-1089-006.

Applicants: Jackson Generation, LLC.

Description: Compliance filing: Informational Filing Regarding Transfer of Ownership to be effective N/A.

Filed Date: 12/16/24.

Accession Number: 20241216-5245.

Comment Date: 5 p.m. ET 1/6/25.

Docket Numbers: ER25-709-000.

Applicants: Mid-Atlantic Interstate Transmission, LLC.

Description: § 205(d) Rate Filing: MAIT submits Amended IA, SA No. 4578 to be effective 2/12/2025.

Filed Date: 12/13/24.

Accession Number: 20241213-5227.

Comment Date: 5 p.m. ET 1/3/25.

Docket Numbers: ER25-710-000.

Applicants: Entergy Arkansas, LLC.

Description: § 205(d) Rate Filing: Quartz Solar, LLC LBA Agreement to be effective 1/1/2025.

Filed Date: 12/13/24.

Accession Number: 20241213-5231.

Comment Date: 5 p.m. ET 1/3/25.

Docket Numbers: ER25-711-000.

Applicants: Powell Creek Solar, LLC.

Description: Initial Rate Filing: Application for Market-Based Rate Authorization, Request for Related Waivers to be effective 1/10/2025.

Filed Date: 12/13/24.

Accession Number: 20241213-5239.

Comment Date: 5 p.m. ET 1/3/25.

Docket Numbers: ER25-712-000.

Applicants: PJM Interconnection, L.L.C.

Description: § 205(d) Rate Filing: Tariff Revisions for Reliability Resource Initiative to be effective 12/14/2024.

Filed Date: 12/13/24.

Accession Number: 20241213-5271.

Comment Date: 5 p.m. ET 1/6/25.

Docket Numbers: ER25-714-000.

Applicants: Deseret Generation & Transmission Co-operative, Inc.

Description: Compliance filing: WestConnect Compliance Filing to be effective 12/17/2024.

Filed Date: 12/16/24.

Accession Number: 20241216-5065.

Comment Date: 5 p.m. ET 1/6/25.

Docket Numbers: ER25-715-000.

Applicants: PJM Interconnection, L.L.C.

Description: Tariff Amendment: Notice of Cancellation—WMPA Service Agreement No. 7007; Queue No. AF1-104 to be effective 2/15/2025.

Filed Date: 12/16/24.

Accession Number: 20241216-5067.

Comment Date: 5 p.m. ET 1/6/25.

Docket Numbers: ER25-716-000.

Applicants: PacifiCorp.

Description: § 205(d) Rate Filing: BPA NITSA (UIUC) Rev 11 (R.S. No. 229) to be effective 12/1/2024.

Filed Date: 12/16/24.

Accession Number: 20241216-5068.

Comment Date: 5 p.m. ET 1/6/25.

Docket Numbers: ER25-717-000.

Applicants: PacifiCorp.

Description: § 205(d) Rate Filing: BPA NITSA (SVEC Load) Rev 2 (S.A. No. 865) to be effective 12/1/2024.

Filed Date: 12/16/24.

Accession Number: 20241216-5076.

Comment Date: 5 p.m. ET 1/6/25.

Docket Numbers: ER25-718-000.

Applicants: EXUS NM Data Center II, LLC.

Description: § 205(d) Rate Filing: EXUS NM Data Center II Notice of Succession to be effective 11/14/2024.

Filed Date: 12/16/24.

Accession Number: 20241216-5078.

Comment Date: 5 p.m. ET 1/6/25.

Docket Numbers: ER25-719-000.

Applicants: EXUS NM Data Center III, LLC.

Description: § 205(d) Rate Filing: EXUS NM Data Center III Notice of Succession to be effective 11/14/2024.

Filed Date: 12/16/24.

Accession Number: 20241216-5081.

Comment Date: 5 p.m. ET 1/6/25.

Docket Numbers: ER25-720-000.

Applicants: Michigan Electric Transmission Company, LLC.

Description: § 205(d) Rate Filing: Filing of a Joint Ownership Agreement_METC Rate Schedule No. 84 to be effective 2/15/2025.

Filed Date: 12/16/24.

Accession Number: 20241216-5132.

Comment Date: 5 p.m. ET 1/6/25.

Docket Numbers: ER25-721-000.

Applicants: PJM Interconnection, L.L.C.

Description: § 205(d) Rate Filing: Original GIA Service Agreement No. 7434; Project Indentifier No. AF2-086 to be effective 11/15/2024.

Filed Date: 12/16/24.

Accession Number: 20241216-5158.

Comment Date: 5 p.m. ET 1/6/25.

Docket Numbers: ER25-722-000.

Applicants: Southwest Power Pool, Inc.

Description: § 205(d) Rate Filing: 4346 WAPA/Black Hills Electric/Rushmore Electric Inter Agr to be effective 12/16/2024.

Filed Date: 12/16/24.

Accession Number: 20241216-5220.

Comment Date: 5 p.m. ET 1/6/25.

Docket Numbers: ER25-723-000.

Applicants: Basin Electric Power Cooperative.

Description: § 205(d) Rate Filing: Basin Electric Submission of Revisions to Attachment K Trans. Planning Process to be effective 12/17/2024.

Filed Date: 12/16/24.

Accession Number: 20241216-5232.

Comment Date: 5 p.m. ET 1/6/25.

Docket Numbers: ER25-724-000.

Applicants: Public Service Company of Colorado.

Description: Compliance filing: 2024-12-16 Att R Revisions to be effective 12/17/2024.

Filed Date: 12/16/24.

Accession Number: 20241216-5251.

Comment Date: 5 p.m. ET 1/6/25.

Docket Numbers: ER25-725-000.

Applicants: California Independent System Operator Corporation.

Description: § 205(d) Rate Filing: 2024-12-16 Amendment to the COI-POA & Request for Waiver to be effective 1/1/2025.

Filed Date: 12/16/24.

Accession Number: 20241216-5257.

Comment Date: 5 p.m. ET 1/6/25.

Docket Numbers: ER25-726-000.

Applicants: Tri-State Generation and Transmission Association, Inc.

Description: Compliance filing: Compliance Filing in Response to October 17, 2024 Order on Remand to be effective 12/17/2024.

Filed Date: 12/16/24.

Accession Number: 20241216-5261.

Comment Date: 5 p.m. ET 1/6/25.

Docket Numbers: ER25-727-000.

Applicants: Cascade Energy Storage, LLC, Bracewell LLP.

Description: § 205(d) Rate Filing: Cascade Energy Storage, LLC submits tariff filing per 35.13(a)(2)(iii: Shared Facilities Agreement to be effective 12/17/2024.

Filed Date: 12/16/24.

Accession Number: 20241216-5262.

Comment Date: 5 p.m. ET 1/6/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 16, 2024.
Debbie-Anne A. Reese,
Secretary.

[FR Doc. 2024-30469 Filed 12-19-24; 8:45 am]

BILLING CODE 6717-01-P